DEPARTMENT OF COMMERCE

Foreign-Trade Zones Board

[B-57-2015]

Correction Notice; Authorization of Production Activity; Foreign-Trade Zone 265; Bauer Manufacturing Inc.; (Stationary Oil/Gas Drilling Rigs); Conroe, Texas

On August 19, 2015, the City of Conroe, Texas, grantee of FTZ 265, submitted a notification of proposed production activity to the Foreign-Trade Zones (FTZ) Board on behalf of Bauer Manufacturing Inc., within FTZ 265, in Conroe, Texas.

The notification was processed in accordance with the regulations of the FTZ Board (15 CFR part 400), including notice in the Federal Register inviting public comment (80 FR 54520, September 10, 2015). The FTZ Board has determined that no further review of the activity is warranted at this time. The production activity described in the notification is authorized, subject to the FTZ Act and the FTZ Board's regulations, including Section 400.14, and further subject to a restriction requiring that foreign status textile-based cotton transport straps (classified within HTSUS Subheading 5806.31) be admitted to the zone in privileged foreign status (19 CFR 146.41).

Dated: January 12, 2016.
Andrew McGilvray,
Executive Secretary.

[FR Doc. 2016-00918 Filed 1-15-16; 8:45 am]

BILLING CODE 3510-DS-P